DEPARTMENT OF LABOR

Employment and Training Administration

Comment Request for Information Collection for the Self-Employment Training (SET) Demonstration Evaluation (SET Evaluation); Extension Request Without Change to an Existing Collection

AGENCY: Employment and Training Administration (ETA); Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA and displays a currently valid OMB control number, and the public is not required to respond to a collection of information unless it displays a currently valid OMB control number. Also, notwithstanding any other provisions of law, no person shall be subject to penalty for failing to comply with a collection of information if the collection of information does not display a currently valid OMB control number (see 5 CFR 1320.5(a) and 1320.6).

This information collection request (ICR) is to obtain extended clearance for Mathematica Policy Research, under contract to ETA, to administer the follow-up survey for the SET Evaluation. A 20-month extension is requested to the data-collection period for the follow-up survey.

DATES: Written comments must be submitted to the office listed in the addressee section below on or before December 15, 2015.

ADDRESSES: Send comments to Janet Javar, U.S. Department of Labor, Room S-2312, 200 Constitution Avenue NW., Washington, DC 20210. Telephone number: (202) 693-5954 (this is not a toll-free number). Email address: javar.janet.o@dol.gov. Fax number: (202) 693-5961 (this is not a toll-free number).

SUPPLEMENTARY INFORMATION:

Background: ETA seeks to implement and rigorously evaluate the effectiveness of innovative strategies for promoting employment based on the authority granted to the agency under the Workforce Innovation and Opportunity Act and, formerly, the Workforce Investment Act. The SET Demonstration focuses specifically on self-employment as a reemployment strategy for dislocated workers. The demonstration is premised on the hypotheses that: (1) Self-employment could be a viable strategy for dislocated workers to become reemployed; (2) starting a small business is difficult, especially for individuals who lack business expertise or access to start-up capital; and (3) dislocated workers might experience difficulties locating and accessing training and counseling services that could effectively prepare them for self-employment via the existing workforce infrastructure.

The SET Demonstration will implement a new service delivery model that seeks to better connect dislocated workers to self-employment services. This approach differs from previous large-scale demonstration programs, which have provided mixed evidence on the effectiveness of self-employment services on earnings and employment, because the SET Demonstration will: (1) Rely on self-employment advisors to offer more intensive business development counseling services than prior demonstrations have offered; and (2) concentrate on dislocated workers who have fairly limited traditional employment prospects but are well-positioned to benefit from self-employment counseling and training. The SET Evaluation will assess the effectiveness of the SET Demonstration model.

To achieve the study's target sample size, enrollment in the SET program began in July 2013 and will continue through December 2015. About 3,000 eligible applicants will be randomly assigned to either receive SET services or to a control group. All 3,000 applicants are asked to complete the 18-month follow-up survey.

An initial clearance request for the SET Evaluation was approved by OMB in January 2013 (ICR reference number 201209-1205-001; OMB control number 1205-0505). Clearance covered the study's consent and application forms, the program participation records, the evaluation team's site visit and case study protocols, and the study participant follow-up survey. This data collection was approved with an expiration date of January 31, 2016 and an annualized total allowable burden of 5,344 hours.

A subsequent non-substantive change request related to the follow-up survey (ICR reference number 201408-1205-005) was approved by OMB in October 2014. This non-substantive request sought to preserve the most critical outcome measures while shortening instrument length to reduce respondent burden. The non-substantive change did not affect any data collection efforts other than the follow-up survey. As with the originally approved OMB package, all 3,000 applicants would be asked to complete the survey, but the shortening of the instrument will reduce the total annualized burden across the entire study from 5,344 to 4,277 hours.

This new request is to extend OMB clearance of the follow-up survey administration, which will expire on January 31, 2016, for an additional 20 months, to September 30, 2017. Given that study enrollment has proceeded more slowly than originally planned, an 18-month follow-up survey could be administered to only approximately 25 percent of the demonstration applicants by the current expiration date of January 31, 2016. Assuming an 80 percent response rate, this would result in approximately 630 respondents (= 3,000 respondents × 0.80 response rate × 0.25 of study participants). Extending the expiration date to September 30, 2017 will allow sufficient time to field the survey to all study applicants. This request does not cover any of the other elements of the OMB-approved data collection; no extension is required for the consent and application forms, the program participation records, or the evaluation team's site visit and case study protocols.

The 18-month follow-up survey is administered 18 months after study participants apply to the SET program. It is the only source of information needed to evaluate the impact program on the six groups of study outcomes: (1) Current employment status; (2) receipt of self-employment assistance services; (3) business development activities; (4) self-employment experiences; (5) experiences in wage and salary employment; and (6) job satisfaction and program participation. These data will be used to determine the impacts of the SET Demonstration on participants' outcomes.

Desired Focus of Comments: Currently, the Department of Labor is soliciting comments concerning the above data collection. Comments are requested to:

* Evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

Current Actions: At this time, the Department is requesting clearance for a 20-month extension of time allowed to complete the SET Evaluation's 18-month follow-up survey.

Type of review: Extension without a change.

Title of Collection: Self-Employment Training Demonstration Evaluation.

OMB Control Number: 1205-0505.

Affected Public: Dislocated workers who applied for services available through the SET Demonstration.

Cite/Reference/Form/etc.: Workforce Investment Act of 1998, Section 172 (Pub. L. 105-220) and Workforce Innovation and Opportunity Act, Section 169 (Pub. L. 113-128).

Annual Burden Estimates for the Set Demonstration Evaluation 18-Month Follow-Up Survey Between February 1, 2016 and September 30, 2017
Activity | Number of respondents ¹ | Responses per respondent | Average time per response | Total respondent burden (hours)
18-Month Follow-Up Survey | 1,770 | 1 | 20 minutes | 590
¹ Attempts will be made to complete interviews with all 3,000 eligible applicants who went through random assignment. Given the targeted response rate of 80 percent, interviews are expected to be completed with 2,400 sample members. The 18-Month follow-up survey will be fielded through September 30, 2017. Interviews with 630 sample members are expected to be completed by January 31, 2016, when the current OMB clearance expires. Another 1,770 interviews are expected to be completed between February 1, 2016 and September 30, 2017, the extension proposed in this request.

This request includes no changes to the follow-up survey instrument, and therefore implies no change in total respondent burden. The study team expects to complete 2,400 interviews, as originally planned, for a response rate of 80 percent. A total of 210 burden hours ((= 630 responses × 20 minutes per response) ÷ 60 minutes/hour) are anticipated for surveys completed prior to the expiration date. As seen in the table above, another 590 burden hours ((= 1,770 responses × 20 minutes/response) ÷ 60 minutes/hour) would occur for surveys completed during the extension period, if granted. The total burden for the follow-up survey as a whole would remain unchanged at 800 hours, the amount originally approved by OMB.

The extension would also reduce the average annualized burden hours because the survey fielding would occur over a longer period than originally planned. The original OMB clearance package assumed that the fielding period would last for 18 months, which implied an average annualized hour burden of 533 (= 800 total hours/1.5 years). Given study enrollment patterns, the follow-up survey began in early April 2015, and the fielding period will last until September 2017 if the extension is granted, for a total of 30 months. The longer fielding period implied a reduction in the average annualized hour burden of 320 (= 800 total hours/2.5 years). If granted, the extension would result in an average annualized dollar burden of $5,737 ((= 2,400 responses × 20 minutes/response) ÷ (60 minutes/hour × $17.93 per hour/2.5 years)), which is lower than under the plan originally approved by OMB.

Comments submitted in response to this request will be summarized and/or included in the request for Office of Management and Budget approval; they will also become a matter of public record.

Signed:
Portia Wu,
Assistant Secretary for Employment and Training, Labor.

[FR Doc. 2015-26373 Filed 10-15-15; 8:45 am]

BILLING CODE 4510-FT-P